DEPARTMENT OF THE TREASURY

Submission for OMB Review; Comment Request

July 26, 2002.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before September 3, 2002, to be assured of consideration.

U.S. Customs Service (CUS)

OMB Number: 1515-0071.

Form Number: Customs Form 26.

Type of Review: Extension.

Title: Report of Diversion.

Description: Customs uses the Customs Form 26 to track vessels traveling coastwise from U.S. ports to other U.S. ports when a change occurs in scheduled itineraries. This is required for the continuity of vessel manifest information.

Respondents: Business or other for-profit, Not-for-profit institutions.

Estimated Number of Respondents: 1,400.

Estimated Burden Hours Per Respondent: 5 minutes.

Frequency of Response: On occasion.

Estimated Total Reporting Burden: 233 hours.

OMB Number: 1515-0076.

Form Number: Customs Forms 3124 and 3124E.

Type of Review: Revision.

Title: Customhouse Broker's License/Permit.

Description: The license permit application is used by individuals, corporations, partnerships or associations applying for initial licensing in one Customs district, or in applying for a permit in an additional Customs district, or applying for a National Permit after receiving prior licensing.

Respondents: Business or other for-profit, individuals or households, not-for-profit institutions.

Estimated Number of Respondents: 3,800.

Estimated Burden Hours Per Respondent: 1 hour.

Frequency of Response: On occasion.

Estimated Total Reporting Burden: 3,800 hours.

OMB Number: 1515-0138.

Form Number: None.

Type of Review: Extension.

Title: Permit to Transfer Containers to a Container Station.

Description: This collection is needed in order for a container station operator to receive a permit to transfer a container or containers to a container station, he/she must furnish a list of names, addresses, etc., or the persons employed by them upon demand by Customs.

Respondents: Business or other for-profit.

Estimated Number of Respondents: 350.

Estimated Burden Hours Per Respondent: 20 minutes.

Frequency of Response: On occasion.

Estimated Total Reporting Burden: 466 hours.

OMB Number: 1515-0218.

Form Number: None.

Type of Review: Extension.

Title: Automated Clearinghouse Credit.

Description: The information is to be used by Customs to send information to the company (such as revised format requirements) and to contact participating companies if there is a payment problem.

Respondents: Business or other for-profit, individuals or households, not-for-profit institutions.

Estimated Number of Respondents: 65.

Estimated Burden Hours Per Respondent: 5 minutes.

Frequency of Response: On occasion.

Estimated Total Reporting Burden: 232 hours.

Clearance Officer: Tracey Denning, U.S. Customs Service, Information Services Branch, Ronald Reagan Building, 1300 Pennsylvania Avenue, NW, Room 3.2.C, Washington, DC 20229, (202) 927-1429.

OMB Reviewer: Joseph F. Lackey, Jr., Office of Management and Budget, Room 10235, New Executive Office Building, Washington, DC 20503, (202) 395-7316.

Mary A. Able,
Departmental Reports Management Officer.

[FR Doc. 02-19444 Filed 7-31-02; 8:45 am]

BILLING CODE 4820-02-P